DEPARTMENT OF TRANSPORTATION

Federal Aviation Administration

14 CFR Part 39

[Docket No. FAA-2014-0344; Directorate Identifier 2014-NM-034-AD]

RIN 2120-AA64

Airworthiness Directives; The Boeing Company Airplanes

AGENCY: Federal Aviation Administration (FAA), DOT.

ACTION: Notice of proposed rulemaking (NPRM).

SUMMARY: We propose to supersede Airworthiness Directive (AD) 2013-24-13, which applies to certain The Boeing Company Model 737-100, -200, -200C, -300, -400, -500, -600, -700, -700C, -800, and -900 series airplanes. AD 2013-24-13 currently requires replacing the pivot link assembly for certain airplanes, replacing the seat track link assemblies or modifying the existing seat track link assembly for certain airplanes, or modifying the existing seat track link assembly fastener for certain airplanes. AD 2013-24-13 also requires inspecting, changing, or repairing the seat track link assembly for certain other airplanes. Since we issued AD 2013-24-13, a paragraph reference was found to be mis-identified. This proposed AD would correct this paragraph reference. We are proposing this AD to prevent seat detachment in an emergency landing, which could cause injury to occupants of the passenger compartment and affect emergency egress.

DATES: We must receive comments on this proposed AD by August 18, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0344; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

SUPPLEMENTARY INFORMATION:

Comments Invited

We invite you to send any written relevant data, views, or arguments about this proposed AD. Send your comments to an address listed under the ADDRESSES section. Include “Docket No. FAA-2014-0344; Directorate Identifier 2014-NM-034-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On November 19, 2013, we issued AD 2013-24-13, Amendment 39-17687 (78 FR 72558, December 3, 2013), for certain The Boeing Company Model 737-100, -200, -200C, -300, -400, -500, -600, -700, -700C, -800, and -900 series airplanes. AD 2013-24-13 requires replacing the pivot link assembly for certain airplanes, replacing the seat track link assemblies or modifying the existing seat track link assembly for certain airplanes, or modifying the existing seat track link assembly fastener for certain airplanes. AD 2013-24-13 also requires inspecting, changing, or repairing the seat track link assembly for certain other airplanes. AD 2013-24-13 resulted from a report that the seat track attachment of body station 520 flexible joint is structurally deficient in resisting a 9g forward emergency load condition in certain seating configurations. We issued AD 2013-24-13 to prevent seat detachment in an emergency landing, which could cause injury to occupants of the passenger compartment and affect emergency egress.

Actions Since AD 2013-24-13, Amendment 39-17687 (78 FR 72558, December 3, 2013) Was Issued

Since we issued AD 2013-24-13, Amendment 39-17687 (78 FR 72558, December 3, 2013), a paragraph reference was found to be mis-identified in paragraph (i) of that AD. Paragraph (i) of AD 2013-24-13 states that before or concurrently with the accomplishment of the actions specified in paragraph (g)(2) or (g)(3) of this AD, install a new seat track link assembly. Where paragraph (i) of AD 2013-24-13 referred to paragraph (g)(3) of that AD, this AD refers to paragraph (g)(4) of this AD.

We have also revised the terminology of the Summary and Discussion sections of this AD to clarify the actions required by this AD.

FAA's Determination

We are proposing this AD because we evaluated all the relevant information and determined the unsafe condition described previously is likely to exist or develop in other products of the same type design.

Proposed AD Requirements

This proposed AD would retain all requirements of AD 2013-24-13, Amendment 39-17687 (78 FR 72558, December 3, 2013). This proposed AD would revise the second sentence of paragraph (i) of this proposed AD to replace the reference to paragraph (g)(3) with reference to paragraph (g)(4) of this proposed AD.

Costs of Compliance

We estimate that this proposed AD affects 1,281 airplanes of U.S. registry.

We estimate the following costs to comply with this proposed AD:

Estimated Costs
Action | Labor cost | Parts cost | Cost per product | U.S. airplanes | Cost on U.S. operators
Replacement or modification [retained actions from AD 2013-24-13, Amendment 39-17687 (78 FR 72558, December 3, 2013)] | Up to 41 work-hours × $85 per hour = $3,485 | Up to $15,478 | Up to $18,963 | 1,281 | Up to $24,291,603.
Concurrent installation or modification (Groups 1, 2, 4, and 5 airplanes) [retained actions from AD 2013-24-13, Amendment 39-17687 (78 FR 72558, December 3, 2013)] ¹ | Up to 60 work-hours × $85 per hour = $5,100 | Up to $18,089 | Up to $23,189 | 214 | Up to $4,962,446.
¹ We have received no definitive data that would enable us to provide a cost estimate for the actions required for airplanes in Group 6 identified in Boeing Special Attention Service Bulletin 737-53-1260, Revision 1, dated May 23, 2013.

This new proposed AD adds no new costs to affected operators.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-24-13, Amendment 39-17687 (78 FR 72558, December 3, 2013), and adding the following new AD:

The Boeing Company: Docket No. FAA-2014-0344; Directorate Identifier 2014-NM-034-AD.

(a) Comments Due Date

The FAA must receive comments on this AD action by August 18, 2014.

(b) Affected ADs

This AD supersedes AD 2013-24-13, Amendment 39-17687 (78 FR 72558, December 3, 2013).

(c) Applicability

This AD applies to the airplanes identified in paragraphs (c)(1) and (c)(2) of this AD, certificated in any category.

(1) The Boeing Company Model 737-100, -200, -200C, -300, -400, and -500 series airplanes, as identified in Boeing Special Attention Service Bulletin 737-53-1260, Revision 1, dated May 23, 2013.

(2) The Boeing Company Model 737-600, -700, -700C, -800, and -900 series airplanes, as identified in Boeing Service Bulletin 737-53-1244, Revision 5, dated July 27, 2011.

(d) Subject

Air Transport Association (ATA) of America Code 53, Fuselage.

(e) Unsafe Condition

This AD was prompted by a report that a Boeing study found that the seat track attachment of body station 520 flexible joint is structurally deficient in resisting a 9g forward emergency load condition in certain seating configurations. We are issuing this AD to prevent seat detachment in an emergency landing, which could cause injury to occupants of the passenger compartment and affect emergency egress.

(f) Compliance

Comply with this AD within the compliance times specified, unless already done.

(g) Retained Repair or Replacement of Seat Track Link Assembly or Seat Track Link Assembly Fastener, With No Changes

This paragraph restates the requirements of paragraph (g) of AD 2013-24-13, Amendment 39-17687 (78 FR 72558, December 3, 2013), with no changes. Within 60 months after January 7, 2014 (the effective date of AD 2013-24-13), do the actions specified in paragraph (g)(1), (g)(2), (g)(3), or (g)(4) of this AD, as applicable.

(1) For Model 737-600, -700, -700C, -800, and -900 series airplanes: Install new, improved pivot link assemblies, in accordance with the Accomplishment Instructions of Boeing Service Bulletin 737-53-1244, Revision 5, dated July 27, 2011.

(2) For airplanes in Groups 1, 2, 3, and 4, as identified in Boeing Special Attention Service Bulletin 737-53-1260, Revision 1, dated May 23, 2013: Replace the seat track link assembly, in accordance with the Accomplishment Instructions of Boeing Special Attention Service Bulletin 737-53-1260, Revision 1, dated May 23, 2013.

(3) For airplanes in Group 6, as identified in Boeing Special Attention Service Bulletin 737-53-1260, Revision 1, dated May 23, 2013: Inspect, change, or repair the seat track link assembly, as applicable, using a method approved in accordance with the procedures specified in paragraph (k) of this AD.

(4) For airplanes in Group 5, as identified in Boeing Special Attention Service Bulletin 737-53-1260, Revision 1, dated May 23, 2013: Modify the existing seat track link assembly fastener, in accordance with the Accomplishment Instructions of Boeing Special Attention Service Bulletin 737-53-1260, Revision 1, dated May 23, 2013.

(h) Retained Optional Modification of Seat Track Link Assembly, With No Changes

This paragraph restates the provisions of paragraph (h) of AD 2013-24-13, Amendment 39-17687 (78 FR 72558, December 3, 2013), with no changes. In lieu of the replacement specified in paragraph (g)(2) of this AD, doing the optional modification of the seat track link assembly, in accordance with the Accomplishment Instructions of Boeing Special Attention Service Bulletin 737-53-1260, Revision 1, dated May 23, 2013, is acceptable for compliance with the requirements of paragraph (g)(2) of this AD, provided the modification is done within the compliance time specified in the introductory text of paragraph (g) of this AD.

(i) Retained Concurrent Actions, With New Concurrent Action for Group 5 Airplanes

This paragraph restates the requirements of paragraph (i) of AD 2013-24-13, Amendment 39-17687 (78 FR 72558, December 3, 2013), with a corrected paragraph reference that results in a new concurrent action for Group 5 airplanes. For airplanes in Groups 1, 2, 4, and 5, as identified in Boeing Special Attention Service Bulletin 737-53-1260, Revision 1, dated May 23, 2013: Before or concurrently with the accomplishment of the actions specified in paragraph (g)(2) or (g)(4) of this AD, install a new seat track link assembly or modify the seat track link assembly, as applicable, in accordance with the Accomplishment Instructions of Boeing Service Bulletin 737-53-1120, Revision 1, dated May 13, 1993.

(j) Retained Credit for Previous Actions With No Changes

This paragraph restates the credit specified in paragraph (j) of AD 2013-24-13, Amendment 39-17687 (78 FR 72558, December 3, 2013), with no changes.

(1) This paragraph provides credit for the actions required by paragraph (g)(1) of this AD, if those actions were performed before January 7, 2014 (the effective date of AD 2013-24-13, Amendment 39-17687 (78 FR 72558, December 3, 2013)), using Boeing Service Bulletin 737-53-1244, dated April 17, 2003; Revision 1, dated May 29, 2003; Revision 2, dated March 15, 2007; or Revision 3, dated December 4, 2008; which are not incorporated by reference in this AD.

(2) This paragraph provides credit for the actions required by paragraphs (g)(2) and (g)(4) of this AD, if those actions were performed before January 7, 2014 (the effective date of AD 2013-24-13, Amendment 39-17687 (78 FR 72558, December 3, 2013)), using Boeing Special Attention Service Bulletin 737-53-1260, dated May 7, 2007, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by The Boeing Commercial Airplanes Organization Designation Authorization (ODA) that has been authorized by the Manager, Seattle ACO, to make those findings. For a repair method to be approved, the repair must meet the certification basis of the airplane and 14 CFR 25.571, Amendment 45, and the approval must specifically refer to this AD.

(l) Related Information

(1) For more information about this AD, contact Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on June 18, 2014.
Michael Kaszycki,
Acting Manager, Transport Airplane Directorate, Aircraft Certification Service.

[FR Doc. 2014-14799 Filed 7-1-14; 8:45 am]

BILLING CODE 4910-13-P